CORPORATION FOR NATIONAL AND COMMUNITY SERVICE

Information Collection; Submission for OMB Review, Comment Request

AGENCY: Corporation for National and Community Service.

ACTION: Notice.

SUMMARY: The Corporation for National and Community Service (CNCS) has submitted a public information collection request (ICR) entitled AmeriCorps NCCC's Sponsor Survey for review and approval in accordance with the Paperwork Reduction Act of 1995, Public Law 104-13, (44 U.S.C. Chapter 35). Copies of this ICR, with applicable supporting documentation, may be obtained by calling the Corporation for National and Community Service, Barbara Lane, at 202-606-6867 or email to blane@cns.gov. Individuals who use a telecommunications device for the deaf (TTY-TDD) may call 1-800-833-3722 between 8:00 a.m. and 8:00 p.m. Eastern Time, Monday through Friday.

DATES: Comments may be submitted, identified by the title of the information collection activity, within May 27, 2016.

ADDRESSES: Comments may be submitted, identified by the title of the information collection activity, to the Office of Information and Regulatory Affairs, Attn: Ms. Sharon Mar, OMB Desk Officer for the Corporation for National and Community Service, by any of the following two methods within 30 days from the date of publication in the Federal Register:

(1) By fax to: 202-395-6974, Attention: Ms. Sharon Mar, OMB Desk Officer for the Corporation for National and Community Service; or

(2) By email to: smar@omb.eop.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on December 28, 2105, at Volume 80 FR 80755-80756. This comment period ended February 26, 2016. No public comments were received from this Notice.

Description: This National Civilian Community Corps Sponsor Survey originally developed this Sponsor Survey to evaluate the program's performance impact on sponsoring organizations and communities. This measurement instrument works to capture outputs and outcomes of the NCCC program on the organizations and communities it serves. Completion of this information collection is not required to be considered for or obtain grant or resource funding support from AmeriCorps NCCC. CNCS also seeks to continue using the current survey until the revised survey is approved by OMB. The current application is due to expire on 8/31/2017.

Type of Review: Renewal.

Agency: Corporation for National and Community Service.

Title: NCCC Sponsor Survey.

OMB Number: 3045-0138.

Agency Number: None.

Affected Public: The NCCC sponsor survey will be administered to the project sponsor for any NCCC service project. These sponsors apply to receive a NCCC team, typically made up of 8-12 Members, for a period of approximately six-eight weeks to implement local service projects. There are approximately 1,200 projects that NCCC perform each year. The project sponsors are uniquely able to provide the information sought in the NCCC Sponsor Survey.

Total Respondents: Based on the number of projects completed last fiscal year, NCCC expects to administer 2,400 surveys each fiscal year. These may not be unique responders as many sponsors receive teams on a rotating basis and thus may complete the survey more than once per year.

Frequency: Biweekly. Each sponsor will complete only one survey per team per project.

Average Time per Response: 30 minutes.

Estimated Total Burden Hours: 1,200 hours.

Total Burden Cost (capital/startup): None.

Total Burden Cost (operating/maintenance): None.

Dated: April 21, 2016.
Jacob Sgambati,
NCCC Director of Operations.

[FR Doc. 2016-09813 Filed 4-26-16; 8:45 am]

BILLING CODE 6050-28-P